DEPARTMENT OF COMMERCE

National Institute of Standards and Technology

Proposed Information Collection; Comment Request; the Building Construction Technology Extension Pilot Client Impact Survey

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 6, 2013.

ADDRESSES: Direct all written comments Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to Dede McMahon, NIST MEP, 100 Bureau Drive, Stop 4800, Gaithersburg, Maryland 20899-4800; (301-975-8328); deirdre.mcmahon@nist.gov.

SUPPLEMENTARY INFORMATION:

I. Abstract

This is a request for a new information collection.

Sponsored by the National Institute of Standards and Technology (NIST), the Manufacturing Extension Partnership (MEP) and the Department of Energy (DOE), Energy Efficiency and Renewable Energy/Building Technologies Office (EERE/BTO), the Building Construction Technology Extension Pilot (BCTEP) is focused on training building operators in the principles and practices of building energy systems re-tuning. Re-tuning is a systematic semi-automated process of identifying operational problems in commercial and industrial buildings. It leverages data collected from the building automation system to identify opportunities to improve the building operations and provides guidance on implementing corrections at no cost or very low cost, leading to a reduction in the overall energy consumption.

NIST MEP, in collaboration with the DOE EERE/BTO, has funded 3 projects in CA, NY and PA to develop, refine and test curricula for buildings that do and do not have building automation systems, then train trainers to deliver the curriculum to building operators, using real commercial, government and industrial buildings as the test beds.

The purpose of the survey is to collect information that will provide the MEP with information regarding Competitive Award Recipient performance regarding the delivery of technology and business solutions to U.S.-based clients.

II. Method of Collection

Information will be collected electronically.

III. Data

OMB Control Number: None.

Form Number: None.

Type of Review: Regular submission (new information collection).

Affected Public: Business or other for-profit organizations; Not-for-profit institutions.

Estimated Number of Respondents: 50.

Estimated Time per Response: 15 minutes.

Estimated Total Annual Burden Hours: 13.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 4, 2013.
Gwellnar Banks,
Management Analyst, Office of the Chief Information Officer.

[FR Doc. 2013-13543 Filed 6-6-13; 8:45 am]

BILLING CODE 3510-13-P